DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on air quality issues relating to agriculture.

DATES: The meeting will convene on Tuesday, May 13, 2008, and Wednesday, May 14, 2008, from 8 a.m. to 5 p.m., and Friday, May 16, 2008, from 8 a.m. to 12 p.m. A public comment period will be held on May 13, 2008, at 4:15 p.m. Individuals making oral presentations should register in person at the meeting site and must bring with them 50 copies of the materials they would like distributed. Written materials for AAQTF's consideration prior to the meeting must be received by Ron Heavner, Acting Designated Federal Officer, no later than April 28, 2008.

ADDRESSES: The meeting will be held at the Salt Lake City Marriott Downtown, 75 South West Temple, Salt Lake City, Utah 84101; telephone: (801) 531-0800.

FOR FURTHER INFORMATION CONTACT: Questions and comments should be directed to Mr. Heavner at USDA, Natural Resources Conservation Service, Post Office Box 2890, Washington, DC 20013; telephone: (202) 720-6107; e-mail: Ron.Heavner@wdc.usda.gov.

SUPPLEMENTARY INFORMATION: Notice of this meeting is given under the Federal Advisory Committee Act, 5 U.S.C. App. 2. Additional information concerning AAQTF may be found on the Internet at http://www.airquality.nrcs.usda.gov/AAQTF/.

Draft Agenda of the May 2008 Meeting of AAQTF*

Tuesday, May 13, 2008

A. Welcome to Salt Lake City.

B. Discussion of Utah Air Quality Issues.

C. Discussion of Fire-Particulate Matter and Ozone Issues.

Wednesday, May 14, 2008

D. Discussion of Subcommittee Action Plans and Activities.

E. Discussion of Particulate Matter and Ozone.

F. Discussion of Climate Change.

Friday, May 16, 2008

G. Discussion of Subcommittee Action Plans and Activities.

H. Next Meeting, Time and Place.

(Time is reserved on May 13, 2008, to receive public comment. Individual presentations will be limited to 5 minutes.)

*Please note that the timing of events in the agenda is subject to change to accommodate changing schedules of expected speakers.

Procedural

This meeting is open to the public. At the discretion of the Chair, members of the public may give oral presentations during the meeting. Those persons wishing to make oral presentations should register in person at the meeting site. Those wishing to distribute written materials at the meeting (in conjunction with spoken comments) must bring 50 copies of the materials with them. Written materials for distribution to AAQTF members prior to the meeting must be received by Mr. Heavner no later than April 28, 2008.

Information on Services for Individuals With Disabilities

For information on facilities or services for individuals with disabilities, or to request special assistance at the meeting, please contact Mr. Heavner. The Department of Agriculture (USDA) prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact USDA's Target Center at (202) 720-2000 (voice and TDD). USDA is an equal opportunity provider and employer.

Signed in Washington, DC, on April 9, 2008.
Arlen L. Lancaster,
Chief.

[FR Doc. E8-8949 Filed 4-23-08; 8:45 am]

BILLING CODE 3410-16-P